AGENCY FOR INTERNATIONAL DEVELOPMENT

Notice of Public Information Collection, Request for Comment on the Continued Use of the Partner Information Form (0412-0577) in Compliance With the Paperwork Reduction Act of 1995

ACTION: Notice.

SUMMARY: The US Agency for International Development invites the general public and other Federal agencies to take this opportunity to comment on the following continuing information collections, as required by the Paperwork Reduction Act of 1995. This information collection was first approved by OMB in 2008, and the Partner Information Form has been used successfully in screening programs in West Bank/Gaza and elsewhere since the OMB approval.

Comments are requested concerning: (a) Whether the continuing collections of information are necessary for the proper performance of the functions of the agency, including whether the information shall have practical utility; (b) the accuracy of the burden estimates; (c) ways to enhance the quality, utility, and clarity of the information collected; and (d) ways to minimize the burden of the collection of information on the respondents, including the use of automated collection techniques or other forms of information technology.

DATES: Submit comments on or before August 16, 2011.

ADDRESSES: Send comments via:

E-mail: regulatorypolicy@usaid.gov

Mail: George Higginbotham, Management Policy Analyst, USAID, RRB, 1300 Pennsylvania Avenue, NW., Washington, DC 20523; (202) 712-1948.

SUPPLEMENTARY INFORMATION: OMB Number: 200705-0412-003.

Form Number: 0412-0577.

USAID Internal Form Number: AID 500-13.

Title: Partner Information Form.

Type of review: Extension of Information Collection.

Purpose: The United States Agency for International Development intends to continue collection of information from individuals and/or officers of for-profit and non-profit non-governmental organizations (NGOs) who apply for USAID contracts, grants, cooperative agreements, other funding from USAID, or who apply for registration with USAID as Private and Voluntary Organizations. The collection of this information will be used to conduct screening to ensure that neither USAID funds nor USAID-funded activities inadvertently provide support to entities or individuals associated with terrorism. Screening programs are being conducted in West Bank/Gaza and other critical priority countries and will be conducted under the Congressionally authorized pilot Partner Vetting System program.

Annual Reporting Burden:

Respondents: 40,000 individuals, 4,000 organizations.

Total Annual Responses: 44,000.

Total Annual Hours Requested: 11,000.

Dated: June 1, 2011.
Lynn Winston,
Division Chief, Information and Records Division, Office of Management Services, Bureau for Management.
George Higginbotham,
Management Policy Analyst.

[FR Doc. 2011-14786 Filed 6-16-11; 8:45 am]

BILLING CODE 6116-01-P